DEPARTMENT OF COMMERCE

International Trade Administration

[A-122-822]

Certain Corrosion-Resistant Carbon Steel Flat Products From Canada: Amended Final Results of Antidumping Duty Administrative Review

AGENCY: Import Administration, International Trade Administration, U.S. Department of Commerce.

SUMMARY: On January 16, 2004, the Department of Commerce (the Department) published the final results of its administrative review of the antidumping duty order on certain corrosion-resistant carbon steel flat products From Canada for the period August 1, 2001 through July 31, 2002. See Certain Corrosion-Resistant Carbon Steel Flat Products From Canada: Final Results of Antidumping Duty Administrative Review (69 FR 2566 (January 16, 2004) (Final Results). We are amending our final results to correct ministerial errors alleged by United States Steel Corporation (Petitioner) pursuant to section 751(h) of the Tariff Act of 1930, as amended (the Act).

EFFECTIVE DATE: February 24, 2004.

FOR FURTHER INFORMATION CONTACT: Elfi Blum-Page or Christian Hughes, Office of Antidumping/Countervailing Duty Enforcement VII, Import Administration, International Trade Administration, U.S. Department of Commerce, 14th Street and Constitution Avenue, NW., Washington, DC 20230; telephone (202) 482-0197 or (202) 482-0190, respectively.

SUPPLEMENTARY INFORMATION:

Scope of the Antidumping Duty Order

The product covered by this antidumping duty order is certain corrosion-resistant steel, and includes flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating, in coils (whether or not in successively superimposed layers) and of a width of 0.5 inch or greater, or in straight lengths which, if of a thickness less than 4.75 millimeters, are of a width of 0.5 inch or greater and which measures at least 10 times the thickness or if of a thickness of 4.75 millimeters or more are of a width which exceeds 150 millimeters and measures at least twice the thickness, as currently classifiable in the Harmonized Tariff Schedule (HTS) under item numbers 7210.30.0030, 7210.30.0060, 7210.41.0000, 7210.49.0030, 7210.49.0090, 7210.61.0000, 7210.69.0000, 7210.70.6030, 7210.70.6060, 7210.70.6090, 7210.90.1000, 7210.90.6000, 7210.90.9000, 7212.20.0000, 7212.30.1030, 7212.30.1090, 7212.30.3000, 7212.30.5000, 7212.40.1000, 7212.40.5000, 7212.50.0000, 7212.60.0000, 7215.90.1000, 7215.90.3000, 7215.90.5000, 7217.20.1500, 7217.30.1530, 7217.30.1560, 7217.90.1000, 7217.90.5030, 7217.90.5060, and 7217.90.5090. Included in this review are corrosion-resistant flat-rolled products of non-rectangular cross-section where such cross-section is achieved subsequent to the rolling process (i.e., products which have been “worked after rolling”)— for example, products which have been beveled or rounded at the edges. Excluded from this review are flat-rolled steel products either plated or coated with tin, lead, chromium, chromium oxides, both tin and lead (“terne plate”), or both chromium and chromium oxides (“tin-free steel”), whether or not painted, varnished or coated with plastics or other nonmetallic substances in addition to the metallic coating. Also excluded from this review are clad products in straight lengths of 0.1875 inch or more in composite thickness and of a width which exceeds 150 millimeters and measures at least twice the thickness. Also excluded from this review are certain clad stainless flat-rolled products, which are three-layered corrosion-resistant carbon steel flat-rolled products less than 4.75 millimeters in composite thickness that consist of a carbon steel flat-rolled product clad on both sides with stainless steel in a 20%-60%-20% ratio.

Amendment of Final Results

On January 16, 2004, the Department published the final results for its review of the antidumping duty order on certain corrosion-resistant carbon steel flat products. See Final Results. In accordance with section 751(h) of the Act and 19 CFR 351.224(c)(2), on January 20, 2004, Petitioner timely filed an allegation that the Department made ministerial errors in the final results. Petitioner contends that in its Final Results, the Department inadvertently did not correct its programming language in the model-match and margin calculation programs to match U.S. sales first to home market sales of identical or most similar merchandise made within the 90/60 day contemporaneity window and at the same level of trade (LOT) as the U.S. sale, before matching to home market sales of identical or most similar merchandise at a different LOT within the 90/60 day contemporaneity window. In the Issues and Decision Memorandum accompanying the final results of review ¹ the Department stated that it had made such a correction. Petitioner suggests programming language to correct this alleged ministerial error. In addition, Petitioner alleges that the Department, when calculating home market revenues, REVENUH, in its model-match program, did not convert U.S. dollar-denominated components of this calculation to Canadian dollars, thereby inadvertently adding together U.S. and Canadian dollars for home market revenues. Respondent did not file comments in response to Petitioner's ministerial error allegations.

¹ See Issues and Decision Memorandum accompanying the Final Results at comment 2.

The Act, as well as the Department's regulations, define a ministerial error as one involving “addition, subtraction, or other arithmetic function, clerical error resulting from inaccurate copying, duplication or the like, and any similar type of unintentional error which the Secretary considers ministerial.” See section 751(h) of the Act and 19 CFR 351.224(f).

After reviewing Petitioner's allegations, we have determined, in accordance with section 751(h) of the Act and 19 CFR 351.224, that these two allegations constitute ministerial errors. In the Issues and Decision Memorandum, we stated that we were going to match HM sales of identical or most similar merchandise made within the 90/60 day contemporaneity window and at the same LOT as the U.S. sale. However, the programming language did not reflect our intent. Moreover, there were U.S. dollar-denominated components of the REVENUH calculation that we did not convert into Canadian dollars. Therefore, we are amending the final results to correct the above-mentioned ministerial errors. All changes to the programming language in the model-match and margin calculation program can be found in the analysis memorandum for the amended final results. See Memorandum To File: Analysis of Dofasco, Inc. and Sorevco, Inc. (Dofasco) for the Amended Final Results of the Ninth Administrative Review of Corrosion-Resistant Carbon Steel Flat Products from Canada, dated February 13, 2004.

Furthermore, we note that, in the Summary section of the Final Results, the Department inadvertently referenced an inaccurate review period. The correct period of this review is August 1, 2001 through July 31, 2002.

The revised weight-averaged dumping margin is as follows:

Manufacturer/exporter | Time period | Margin
Dofasco Inc. | 08/01/01-07/31/02 | 1.87 percent.

The revised cash deposit rate for Dofasco shown above is effective on all shipments of the subject merchandise entered, or withdrawn from warehouse, for consumption on or after the date of publication of this notice, and will remain in effect until publication of the final results of the next administrative review. Accordingly, the Department will determine, and U.S. Customs and Border Protection will assess, antidumping duties on all entries of subject merchandise from Dofasco during the period August 1, 2001 through July 31, 2002, in accordance with these amended final results.

Consequently, we are issuing and publishing these amended final results and notice in accordance with sections 751(a)(1), 751(h), and 777(i) of the Act, as well as 19 CFR 351.224(f).

Dated: February 18, 2004.
James J. Jochum,
Assistant Secretary for Import Administration.

[FR Doc. 04-3982 Filed 2-23-04; 8:45 am]

BILLING CODE 3510-DS-P